INTERNATIONAL TRADE COMMISSION

[Investigation Nos. 701-TA-253 and 731-TA-132, 252, 271, 273, 532-534, and 536 (Third Review)]

Certain Pipe and Tube From Brazil, India, Korea, Mexico, Taiwan, Thailand, and Turkey; Commission Determination To Conduct Full Five-Year Reviews

AGENCY: United States International Trade Commission.

ACTION: Notice.

SUMMARY: The Commission hereby gives notice that it will proceed with full reviews pursuant to section 751(c)(5) of the Tariff Act of 1930 (19 U.S.C. 1675(c)(5)) to determine whether revocation of the countervailing duty order on welded carbon steel pipe and tube from Turkey, the antidumping duty orders on welded carbon steel pipe and tube from India, Thailand, and Turkey, the antidumping duty orders on circular welded nonalloy steel pipe from Brazil, Korea, Mexico, and Taiwan, and the antidumping duty order on small diameter carbon steel pipe and tube from Taiwan would be likely to lead to continuation or recurrence of material injury within a reasonably foreseeable time. A schedule for the reviews will be established and announced at a later date. For further information concerning the conduct of these reviews and rules of general application, consult the Commission;s Rules of Practice and Procedure, part 201, subparts A through E (19 CFR part 201), and part 207, subparts A, D, E, and F (19 CFR part 207).

DATES: Effective Date: October 4, 2011.

FOR FURTHER INFORMATION CONTACT: Mary Messer (202-205-3193), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS) at http://edis.usitc.gov.

SUPPLEMENTARY INFORMATION: On October 4, 2011, the Commission determined that it should proceed to full reviews in the subject five-year reviews pursuant to section 751(c)(5) of the Act. The Commission found that the domestic interested party group response to its notice of institution (76 FR 38691, July 1, 2011) was adequate and that the respondent interested party group responses with respect to Mexico, Thailand, and Turkey were adequate, and decided to conduct full reviews with respect to the countervailing duty order on welded carbon steel pipe and tube from Turkey and the antidumping duty orders on welded carbon steel pipe and tube from Thailand and Turkey and circular welded nonalloy steel pipe from Mexico. The Commission found that the respondent interested party group responses with respect to Brazil, India, Korea, and Taiwan were inadequate. However, the Commission determined to conduct full reviews concerning the antidumping duty orders on welded carbon steel pipe and tube from India, circular welded nonalloy steel pipe from Brazil, Korea, and Taiwan, and small diameter carbon steel pipe and tube from Taiwan to promote administrative efficiency in light of its decision to conduct full reviews with respect to certain pipe and tube orders concerning Mexico, Thailand, and Turkey. A record of the Commissioners' votes, the Commission's statement on adequacy, and any individual Commissioner's statements will be available from the Office of the Secretary and at the Commission's Web site.

Authority: These reviews are being conducted under authority of title VII of the Tariff Act of 1930; this notice is published pursuant to section 207.62 of the Commission's rules.

By order of the Commission.
James R. Holbein,
Secretary to the Commission.

[FR Doc. 2011-27355 Filed 10-21-11; 8:45 am]

BILLING CODE 7020-02-P